DEPARTMENT OF COMMERCE

International Trade Administration

19 CFR Part 361

[Docket No. 210512-0104]

RIN 0625-AB18

Aluminum Import Monitoring and Analysis System: Effective Date and Response to Comments

AGENCY: Enforcement and Compliance, International Trade Administration, Department of Commerce.

ACTION: Final rule; response to comments.

SUMMARY: The U.S. Department of Commerce (Commerce) is confirming the stay of the regulations entitled “Aluminum Import Monitoring and Analysis System” will be lifted on June 28, 2021. Commerce is also addressing the additional public comments received regarding the final rule. Finally, Commerce is also confirming that compliance with its regulations regarding the Aluminum Import Monitoring and Analysis (AIM) system, except for certain sections, will take effect on June 28, 2021 and is extending the temporary delay for compliance with the remaining sections its regulations from December 23, 2021 to June 28, 2022.

DATES:

Effective date: This document is effective on June 28, 2021.

Compliance dates: Compliance with 19 CFR part 361 (except for § 361.103(c)(3)(i)(C) and (c)(3)(ii)(C)) is required on June 28, 2021. See the SUPPLEMENTARY INFORMATION for more information. Section 361.103(c)(3)(i)(C) and (c)(3)(ii)(C) allow filers to state “unknown” for certain fields on the license application on a temporary basis through June 28, 2022. As of June 29, 2022, filers will no longer be able to state “unknown” and will be required to provide the requested information for these fields.

ADDRESSES: The AIM system website is https://www.trade.gov/aluminum. Through this website, potential license applicants can register for the online license application platform and apply for licenses. Additionally, the public AIM monitor is featured on this website. Commerce released the public AIM monitor using publicly available data through this website on March 29, 2021.

More information can be found in the final rule, on the AIM system website, and at https://www.trade.gov/updates-aluminum-import-licensing. Commerce is offering virtual demonstrations of the online license application platform for potential license applicants. Commerce is also offering a virtual demonstration of the public AIM monitor, which is available to the general public. Although the demonstrations will be completely virtual, Commerce will have a limited number of spots available for participation in the demonstrations. For specific dates and times of the demonstrations, and to participate in the demonstrations, please visit the AIM system website or https://www.trade.gov/updates-aluminum-import-licensing.

FOR FURTHER INFORMATION CONTACT: Julie Al-Saadawi at (202) 482-1930 or Jessica Link at (202) 482-1411, respectively.

SUPPLEMENTARY INFORMATION:

Background

On April 29, 2020, Commerce published a proposed rule for the establishment of the AIM system in 19 CFR part 361.¹ On December 23, 2020, Commerce published “Aluminum Import Monitoring and Analysis System,” (Final Rule), addressing 17 comments on the Proposed Rule and establishing the AIM system in 19 CFR part 361 that would be comprised of an aluminum import licensing program and a public AIM monitor, available through the AIM system website.²

¹ Aluminum Import Monitoring and Analysis System Proposed Rule, 85 FR 23748 (April 29, 2020) (Proposed Rule).

² Aluminum Import Monitoring and Analysis System, 85 FR 83804 (December 23, 2020) (Final Rule).

As explained in the Final Rule, the AIM system requires importers, customs brokers or their agents to apply for and obtain an import license for each entry of certain aluminum products into the United States through the AIM system website; requires license applicants to identify, among other requirements, the country or countries where the largest and the second largest volume of primary aluminum used in the manufacture of the imported aluminum product was smelted (subject to certain exceptions) and the country where the aluminum product was most recently cast; requires license applicants to report their license numbers on their entry summary documentation, or electronic equivalent, to U.S. Customs and Border Protection (CBP); allows for the public release of certain import license data on an aggregate basis, as appropriate, on the public AIM monitor; and applies the license requirement to all imports of basic aluminum products. The goal of the AIM system is to allow for the effective and timely monitoring of import surges of specific aluminum products and to aid in the prevention of transshipment of aluminum products. Modeled after the similar Steel Import Monitoring and Analysis (SIMA) system,³ the AIM system is established pursuant to the Secretary's authority under the Census Act, as amended (13 U.S.C. 301(a) and 302). The responsibility for administering the AIM system is delegated to the Assistant Secretary for Enforcement and Compliance.

³ See Steel Import Monitoring and Analysis System, Final Rule, 70 FR 72373 (December 5, 2005); Modification of Regulations Regarding the Steel Import Monitoring and Analysis System, 85 FR 56162 (September 11, 2020) (SIMA Modification).

The original effective date for the Final Rule and part 361 was January 25, 2021, meaning that license numbers would be required to be reported to CBP on entry summary documentation, or electronic equivalent, for covered aluminum products on or after this date. On January 4, 2021, Commerce launched the AIM system website and allowed for importers, customs brokers and their agents to begin applying for and obtaining their import licenses.

On January 22, 2021, Commerce announced that it was delaying the effective date of the Final Rule and part 361 until March 29, 2021.⁴ In the Delay of Effective Date Notification, published on January 27, 2021, Commerce also opened a 30-day comment period to solicit public comment on all aspects of the Final Rule, the AIM system, and part 361. The comment period closed on February 26, 2021. Commerce received four comments, addressed below.⁵

⁴ Aluminum Import Monitoring and Analysis System: Delay of Effective Date, 86 FR 7237 (January 27, 2021) (Delay of Effective Date Notification).

⁵ These comments can be found by searching for the Final Rule (Docket No. ITA-2021-0001) on the Federal eRulemaking portal at http://www.regulations.gov.

On March 29, 2021, Commerce announced that it was delaying compliance with most aspects of the Final Rule and part 361 by an additional ninety days, by staying part 361.⁶ In the Stay and Delay of Compliance Date Notification, published on April 1, 2021, Commerce explained that the delay would allow Commerce time to finalize the license application system and to provide both the public and CBP with sufficient advance notice of the new compliance date. Commerce also explained that the delay would allow Commerce to consider and respond, as appropriate, to the comments received during the January 27, 2021 to February 26, 2021 comment period.

⁶ Aluminum Import Monitoring and Analysis System: Stay and Delay of Compliance Date, 86 FR 17058 (April 1, 2021) (Stay and Delay of Compliance Date Notification).

Although Commerce delayed compliance with most aspects of the Final Rule and part 361, Commerce released the public AIM monitor on the AIM system website on March 29, 2021. The public AIM monitor provides information on U.S. imports of aluminum from all countries by broad product categories in both value and volume measures. The public AIM monitor currently only includes publicly available import data, as the license information is not yet available. Once the license collection begins after June 28, 2021, and Commerce has sufficient time to review the license data, the public AIM monitor will report certain aggregate information on imports of covered aluminum product categories using both publicly available import data and data obtained from the aluminum licenses.

With this document, Commerce confirms that compliance with most aspects of the Final Rule and part 361 will be required on June 28, 2021. Specifically, licenses will be required for all covered aluminum imports and must be reported to CBP on entry summary documentation, or electronic equivalent, on or after this date. Additionally, the remaining portions of the regulations concerning the removal of the option to state “unknown” for certain fields on the aluminum license form will now be effective on June 29, 2022, as discussed below, and as stated in the relevant sections of part 361.⁷

⁷ For further background and information, see the Final Rule.

As discussed above, the AIM system website is operational and potential license applicants may obtain their user identification numbers and apply for and obtain licenses at any time. Potential license applicants are encouraged to obtain user identification numbers and familiarize themselves with the system. Any licenses that were issued prior to June 28, 2021 and are less than 75 days old can be used for covered aluminum imports on or after June 28, 2021. Any licenses that were issued prior to June 28, 2021 and have expired (i.e., licenses issued prior to April 14, 2021), may be disregarded. If parties are unsure whether a previously issued license has expired, the party may cancel the previous license and obtain a new one. There is no penalty for unused or canceled licenses. Commerce also requests that parties cancel licenses that will not be used.

Lastly, because the AIM system is a new program, Commerce will seek additional comment from the public on potential improvements or changes to the system in a subsequent document after the AIM system is in place. Parties will have the opportunity to provide further comment on any issue discussed herein or any related topic at that time.

Explanation of Changes From the Final Rule

The AIM system and part 361 are unchanged from the Final Rule, except that, as explained below, Commerce is extending the period for license applicants to state “unknown” for certain fields on the license application on a temporary basis. This period, originally set to expire on December 23, 2021, is now extended to June 28, 2022.

Section 361.103, covering the automatic issuance of import licenses, provides that aluminum import licenses will be issued to registered importers, customs brokers, or their agents through an automatic aluminum import licensing system. In order to obtain the license, the applicant (also referred to as the filer) must report the information identified under § 361.103(c)(1) in the fields of the license application form. As described in the Final Rule and as stated in § 361.103(c)(1)(xiii), (xiv), and (xv), among other requirements, Commerce requires the applicant to provide the following information in three separate fields: (1) The country where the largest volume of primary aluminum used in the manufacture of the imported aluminum product was smelted (referred to as “country of smelt for the largest volume of primary aluminum” or “country of smelt” as shorthand), (2) the country where the second largest volume of primary aluminum used in the manufacture of the imported aluminum product was smelted (referred to as “country of smelt for the second largest volume of primary aluminum” or “country of smelt” as shorthand), and (3) the country where the aluminum used in the imported aluminum product was most recently cast (referred to as “country of most recent cast” for shorthand). These fields are further described under § 361.103(c)(3).

Section 361.103(c)(3)(i)(A) defines the field for the country of smelt for the largest volume of primary aluminum as the country where the largest volume of new aluminum metal is produced from alumina (or aluminum oxide) by the electrolytic Hall-Héroult process. Recognizing that importers may have some initial difficulties in securing this information, § 361.103(c)(3)(i)(C) allows filers to state “unknown” for this field on the license application on a temporary basis. Similar to the country of smelt for the largest volume of primary aluminum field, § 361.103(c)(3)(ii)(A) defines the field for the country of smelt for the second largest volume of primary aluminum as the country where the second largest volume of new aluminum metal is produced from alumina (or aluminum oxide) by the electrolytic Hall-Héroult process. Section 361.103(c)(3)(ii)(C) allows filers to state “unknown” in this field on a temporary basis.

In this document, Commerce is now extending the temporary period (originally set to expire on December 23, 2021) to allow for license applicants to state “unknown” in the fields for country(ies) of smelt for the largest and second largest volume of primary aluminum until June 28, 2022. Commerce will begin requiring the requested information for these fields for license applications on or after June 29, 2022, meaning that filers may no longer state “unknown” for these fields after that date. Section 361.103(c)(3)(i)(C) and (c)(3)(ii)(C) have been modified to reflect these changes.

Response to Comments Received on the Final Rule

Commerce received four comments on the final rule in response to the Delay of Effective Date Notification. In general, all commenters were supportive of the AIM system, which they believe will help provide additional tools for ensuring a fair and competitive U.S. marketplace for aluminum products. The commenters also stated that a robust aluminum monitoring program to effectively and accurately track imports will benefit domestic aluminum companies by helping government officials and industry stakeholders identify trends in trade flows and address aluminum misclassification, transshipment, and evasion of duties. Commerce is thankful for the comments in support and looks forward to an efficient and expeditious roll-out of the AIM system.

Each of the commenters raised specific comments seeking clarification or improvement on some aspects of the AIM system. Below is a summary of the comments, grouped by issue category, followed by Commerce's response.

1. Country(ies) of Smelt and Country of Most Recent Cast Reporting Requirements

a. Clarification of Reporting Requirements

All four commenters generally sought further clarifications regarding the reporting requirements for the license fields for the country(ies) of smelt for the largest and second largest volume of primary aluminum and country of most recent cast.

First, some commenters reiterated comments previously raised in response to the Proposed Rule regarding the reference “country of pouring” instead of “country of most recent cast” as was adopted in the Final Rule.

Second, one commenter requested confirmation that the AIM system and aluminum licensing requirements only apply to imported aluminum products.

Third, one commenter argued that Commerce must track the origin of primary and secondary aluminum used in semi-finished products. Another commenter also argued that Commerce should be tracking the source of primary aluminum used in downstream aluminum products.

Fourth, one commenter requested that Commerce clarify that country(ies) of smelt information can be tracked and reported using traditional inventory management methods (recognized under Generally Accepted Accounting Principles (GAAP)).

Fifth, one commenter argued that Commerce should require the identification of the manufacturer of the aluminum, rather than permitting parties to state “unknown” for this field on the license form. This commenter states that aluminum products are always tagged to identify the manufacturer, so the U.S. importer will always know this information. Therefore, this commenter argues that there is no need for leeway in identifying the aluminum manufacturer.

Sixth, one commenter requested that country of smelt information not be required to be reported in defined situations where there is no risk of circumvention; where the burdens and costs related to tracking smelt details on a coil- or unit-specific basis are not justified; and where the collection of country of smelt information will not add any material insight to the trade in aluminum. This commenter provided two examples. First, for products that are hot-rolled in the United States, exported for further processing or manufacturing that did not include additional hot-rolling, and then re-imported back into the United States, the commenter explained that under the United States-Canada-Mexico Agreement (USMCA), such goods retain their U.S. origin and need not follow the requirements of the U.S. Goods Returned procedures under Chapter 98 of the Harmonized Tariff Schedule of the United States (HTSUS). The commenter argues that to impose coil-specific smelt-country tracking obligations on such goods that have been hot-rolled in the United States (when U.S. manufacturing has already transformed a downstream aluminum product that is several steps removed from smelting operations) would run counter to Commerce's policy of promoting U.S. manufacturing. In addition, the commenter states that requiring such tracking would in turn require significant investment of resources that will affect prices or require U.S. manufacturers to opt not to provide smelt certifications to their foreign customers. Second, this commentor also suggested that country of smelt information not be required if inputs other than primary-smelted aluminum account for 80 percent or more of the metal content of the aluminum product.

Response: With respect to the first issue raised, as explained in the Final Rule and as noted above, pursuant to § 361.103(c)(1)(xiii), (xiv), and (xv) Commerce will require the aluminum import license applicant to provide information in three separate fields: (1) The country where the largest volume of primary aluminum used in the manufacture of the imported aluminum product was smelted (referred to as “country of smelt for the largest volume of primary aluminum” as shorthand), (2) the country where the second largest volume of primary aluminum used in the manufacture of the imported aluminum product was smelted (referred to as “country of smelt for the second largest volume of primary aluminum” as shorthand), and (3) the country where the aluminum used in the imported aluminum product was most recently cast (referred to as “country of most recent cast” for shorthand). As discussed in the Final Rule, Commerce has codified detailed definitions of these terms in § 361.103(c)(3). Commerce recognizes that use of the phrase “country of pouring” in the Proposed Rule did not accurately reflect terminology utilized in the aluminum industry and may have caused some confusion. Therefore, this term is not used in the Final Rule. Instead, Commerce refers to the “country of most recent cast.” This is explained in the Final Rule, 85 FR at 83809-10, and further defined in § 361.103(c)(3)(iii).

On the second issue raised, Commerce confirms that licenses are only required for imported covered aluminum products coming into the United States. Specifically, as explained in the Final Rule and § 361.101(b), licenses will be required for imports of basic aluminum products that are entered, or withdrawn for consumption from a bonded warehouse, into the commerce of the United States under the following Harmonized Tariff Schedule (HTS) codes: 7601, 7604, 7605, 7606, 7607, 7608, 7609, 7616.99.51.60, and 7616.99.51.70.⁸ An aluminum import license will be required for every entry of covered aluminum products under these HTS codes, regardless of origin. However, as described in § 361.101(c), (d), and (e), entries from foreign trade zones into the commerce of the United States; temporary import bond (TIB) entries; transportation & exportation (T&E) entries; entries into a bonded warehouse; and informal entries, are exempt from the license requirement.⁹

⁸ As discussed in § 361.101(a)(1), a list of the products covered by the AIM system by HTS codes can be obtained on the AIM system website. The HTS codes, which are maintained by the U.S. International Trade Commission (ITC), may be updated periodically to reflect revisions to the codes.

⁹ See Final Rule, 85 FR at 83808-12.

On the third issue raised, tracking the origin of primary and secondary aluminum used in semi-finished products and tracking the source of primary aluminum used in downstream aluminum products, we clarify the following. The “product” that is imported will be classified under one of the HTS codes identified above and may take the form of either a semi-finished product (slab, billets, or ingots) or a finished aluminum product. This is the “final solid state” of the product upon importation.

Therefore, the field in the license application requiring identification of the country where the largest volume of primary aluminum used in the manufacture of the imported product (either a semi-finished or finished product) was smelted applies to the country where the largest volume of new aluminum metal is produced from alumina (or aluminum oxide) by the electrolytic Hall-Héroult process (see § 361.103(c)(3)(i)(A)).¹⁰ Likewise, the field in the license application requiring identification of the country where the second largest volume of primary aluminum used in the manufacture of the imported product (either semi-finished or finished product) was smelted applies to the country where the second largest volume of new aluminum metal is produced from alumina (or aluminum oxide) by the electrolytic Hall-Héroult process (see § 361.103(c)(3)(ii)(A)).¹¹ And the field in the license application requiring identification of the country where the imported product (either semi-finished or finished product) was most recently cast applies to the country where the aluminum (with or without alloying elements) was last liquified by heat and cast into a solid state (see § 361.103(c)(3)(iii)(A)).¹² As noted above, this final solid state can take the form of either a semi-finished product (slab, billets or ingots) or a finished aluminum product.

¹⁰ In accordance with § 361.103(c)(3)(i)(B), filers may state “not applicable” for this field if the product contains only secondary aluminum and no primary aluminum. Secondary aluminum is defined as aluminum metal that is produced from recycled aluminum scrap through a re-melting process. As explained in this document and § 361.103(c)(3)(i)(C), filers may state “unknown” for this field for license applications up to June 28, 2022.

¹¹ In accordance with § 361.103(c)(3)(ii)(B), filers may state “not applicable” for this field if the product contains only secondary aluminum and no primary aluminum. Secondary aluminum is defined as aluminum metal that is produced from recycled aluminum scrap through a re-melting process. As explained in this document and § 361.103(c)(3)(ii)(C), filers may state “unknown” for this field for license applications up to June 28, 2022.

¹² In accordance with § 361.103(c)(3)(iii)(B) and (C), filers may not state “not applicable” or “unknown” for this field.

Thus, to maximize the benefits of import monitoring for the full value chain of the U.S. aluminum industry, Commerce is requiring that license applicants identify the country where primary aluminum inputs for imported aluminum products were smelted and the country where intermediate processing or casting of semi-finished or finished products occurred. Tracking this information will be valuable in understanding supply chain developments and trade distortions with data released through the public AIM monitor. Commerce also recognizes that imported aluminum products may only contain one source of primary aluminum or may be comprised partially or entirely of secondary aluminum. Consequently, Commerce allows users to state that the country(ies) of smelt fields are “not applicable” in these cases. Commerce understands that secondary aluminum can be recycled and remelted endlessly and is not attempting to track secondary inputs.

However, as discussed in the Final Rule, the country of most recent cast is information that generally is readily available to the importer or its broker and is most likely to be identified in the import documentation accompanying the entry summary to be filed with CBP (invoices, lab reports, etc.). In some instances, the country of most recent cast may be identified as the country of origin. Further, because a semi-finished or finished aluminum product could go through the casting process multiple times before importation into the United States, the field only requests the country of most recent cast. For these reasons, filers may not state “not applicable” or “unknown” for this field.¹³

¹³ See Final Rule, 85 FR at 83809-10.

On the fourth issue raised, Commerce does not require filers to track and report country(ies) of smelt information using any particular inventory management method. As with all other reported information in licenses, applicants are expected to certify that the information is accurate and complete to the best of their knowledge.¹⁴ The manner in which parties track information or maintain internal records to ensure accuracy and completeness in their reporting is left up to parties.

¹⁴ Sample license forms can be found at https://www.trade.gov/updates-aluminum-import-licensing.

On the fifth issue raised, the AIM system will also allow for license applicants to indicate that the manufacturer is “unknown.” While the option of identifying the manufacturer as unknown is permitted, Commerce does require license applicants certify that they have provided information that is accurate and complete to the best of their knowledge and, accordingly, expects applicants to identify the manufacturer if known. Additionally, Commerce notes that manufacturer information is not released publicly. The public AIM monitor only releases aggregated import data that does not include business proprietary information or information that could be used to identify license applicants.

On the sixth issue raised, we are not accepting the commenter's request that we exempt certain types of entries from the country(ies) of smelt reporting requirement. The commenter argues that in certain situations such information should not be requested because there is no risk of circumvention; the burdens and costs related to tracking smelt details on a coil- or unit-specific basis are not justified; and the collection of country of smelt information will not add any material insight to the trade in aluminum. This commenter provided two examples—entries of hot-rolled coil smelted in the United States, further processed abroad, and returned under the U.S. Good Returned program and entries where the non-primary aluminum makes up 80 percent or more of the aluminum in the product.

As an initial matter, these comments have been raised for the first time in response to the Final Rule, and no other commenter has had an opportunity to consider these exemption requests. Therefore, it would not be appropriate to adopt these exemptions at this time, without the benefit of additional party comments. With that, we encourage parties to consider these issues in the next request for comments on the AIM system.

More generally, we disagree that tracking these types of entries will provide no material insight into the aluminum trade. As has been our experience with SIMA, tracking products with different origin, including U.S. origin, along with products with other origins, is an important function of the monitor and will assist both the trade and Commerce in viewing trends on a near real-time basis. Additionally, tracking potential circumvention trends is not the only purpose for which Commerce is adopting the AIM system. Further, as explained in the Final Rule, Commerce recognizes that there may be some amount of burden to parties, who may not currently track country(ies) of smelt information in the normal course of business. To help alleviate any concerns, Commerce is allowing parties additional time to track this information, extending the temporary period to report “unknown” for these fields to June 28, 2022, as explained in this document.¹⁵

¹⁵ See Final Rule, 85 FR at 83810.

We reiterate that, as discussed in the Final Rule, after the AIM system is in place, Commerce will seek additional comments from parties on potential improvements or changes to the system in a subsequent document. Parties may further comment on these issues, or any issues with the AIM system, at that time.

b. Delayed Collection of Country of Smelt Information

One commenter requested that the requirement to report the country of smelt and country of second largest smelt be delayed for an additional year beyond the original effective date of December 24, 2021. This commenter noted that the requirement to identify the country or countries where primary aluminum used in the manufacture of aluminum products was smelted was not made clear in the Proposed Rule. This commenter further explained that this new data field requirement is not currently captured in their existing systems that are used to manage and track all purchases. While this system does track country of origin it is not tied to country of smelt information and tracking it correctly will require substantial reprogramming for the party. To avoid imposing an undue burden, this commenter consequently requested that Commerce delay the reporting requirement for an additional year.

Response: As stated above in the Explanation of Changes from the Final Rule section, Commerce is granting the commenter's request, in part, and will allow license applicants to continue to state “unknown” for the country of largest smelt and country of second largest smelt license fields until June 28, 2022. Commerce recognizes that importers may have initial difficulty in securing the information necessary to complete the fields for the country of smelt for the largest and second largest volume of primary aluminum. As such, Commerce will allow filers to state “unknown” in these fields on a temporary basis. Specifically, “unknown” may be stated for a period of one year from the beginning of compliance with the Final Rule (i.e., up to June 28, 2022) to enable license applicants sufficient time to gather the requisite information. Effective one year from the beginning of compliance of the Final Rule, June 29, 2022, filers will no longer be able to state “unknown” and will be required to provide the requested information for this field.

This places importers on notice that they need to start collecting the necessary documentation that tracks this information within their supply chains. It will also allow the AIM system to be launched expeditiously while providing importers an adjustment period to start collecting this information.

2. Expanding the Scope of AIM Program

One commenter requested that Commerce consider expanding the scope of the AIM licensing program to include all products classifiable of Chapter 76 of the harmonized tariff schedule.

Response: The AIM system will not require import license for aluminum products other than those covered in the Final Rule. However, Commerce has considered the commenter's assertion that collecting data on all aluminum products will support the entire aluminum industry. Accordingly, as discussed in the Final Rule, after the AIM system is in place, Commerce will seek additional comment from parties on potential improvements or changes to the system in a subsequent document. Parties may comment on the inclusion of these products in the AIM system's import license requirement at that time. Furthermore, at the sub-regulatory level, Commerce will consider adding additional product groups to the public AIM monitor, beyond the HTS categories covered by the license requirement, which will be based only on publicly available import data. This would be done in a similar manner as the inclusion of aluminum scrap data in the public AIM monitor.

3. Further Documentation and Additional Requirements

One commenter requested that Commerce require submission of mill test certificates for various inputs consumed at every stage of production of aluminum products. The commenter stated that this documentation is readily available and should be required with every shipment to verify the location of production and protect against evasion. Another commenter argued that, to inhibit transshipment, the AIM system should require submission of licenses and supporting documentation to CBP, not simply the license number.

Response: As explained in the Final Rule, Commerce will not adopt these proposals at this time. Although these suggestions have merit and warrant further consideration, adopting them at this time would create additional burdens on which the public has not had an opportunity to comment. In addition, some of these suggestions would necessitate further inter-agency consultation and coordination, which has not been considered for purposes of this rulemaking. Thus, there is no requirement to present physical copies of the license forms or any other documentation at the time of entry summary. However, documents must be maintained in accordance with CBP's normal requirements.¹⁶

¹⁶ Id., 85 FR at 83811.

In addition, we recognize that the AIM system is modeled on the SIMA system, and CBP requires steel importers to provide mill test certificates for steel imports.¹⁷ While CBP could be asked to consider requiring the collection of mill test certificates for covered aluminum products in the future, as they currently do for steel, that requirement is outside of the scope of this rulemaking. That said, as discussed above, after the AIM system is in place, Commerce will seek additional comment from parties on potential improvements or changes to the system in a subsequent document. Parties may further comment on these issues at that time.

¹⁷ See SIMA Modification, 85 FR at 56166 (“[T]he mill test certification is currently required by CBP for entry purposes, in accordance with 19 CFR 141.89 and 142.6, and Commerce expects that the mill test certification would be included with the standard sales documentation for steel mill imports and therefore would be readily available to the importer.”)

4. Bonded Warehouses

One commenter requested that the AIM system should require licenses for bonded warehouses and remove the exemption in § 306.101(e) that only requires a license for goods that are withdrawn from the warehouse for consumption.

Response: This comment was raised in response to the Proposed Rule and Commerce addressed it in the Final Rule. We have not reconsidered our position from the Final Rule that Commerce will not require users to obtain aluminum import licenses for entry into bonded warehouses. As explained in the Final Rule, only entries of covered aluminum products withdrawn for consumption from bonded warehouses will require a license at the entry summary. Entry into bonded warehouses does not constitute an entry for consumption as provided in § 361.101(b) and (e), and some of the aluminum could subsequently be re-exported from bonded warehouses. Additionally, Commerce also finds that including these shipments in the aluminum license data would likely overestimate monthly imports of aluminum for consumption. Furthermore, this would require users to obtain two separate licenses for importation into bonded warehouses and importation into consumption. This would increase the public burden and further reduce the accuracy of AIM licenses because the system would double-count these licenses.¹⁸

¹⁸ See Final Rule, 85 FR at 83812.

Classifications

Executive Order 12866

The Office of Management and Budget (OMB) has determined that this is a significant rulemaking under Executive Order 12866, but it is not economically significant.

Executive Order 13132

This rulemaking does not contain policies with federalism implications as that term is defined in section 1(a) of Executive Order 13132, dated August 4, 1999 (64 FR 43255 (August 10, 1999)).

Paperwork Reduction Act

This rule contains a collection of information subject to the Paperwork Reduction Act, 44 U.S.C. Chapter 35 (PRA). The requirements have been approved by OMB.

OMB Control Number: 0625-0279.

Expiration: 1/31/2024.

ITA Number: ITA-4142a (regular license); ITA-4142b (low-value license).

Type of Review: Regular Submission.

Affected Public: Business or other for-profit.

Estimated Number of Registered Users: 1,750.

Estimated Time per Response: less than 10.5 minutes.

Estimated Total Annual Burden Hours: 48,749 hours.

Estimated Total Annual Costs: $0.00.

Notwithstanding any other provision of law, no person is required to respond to nor shall a person be subject to a penalty for failure to comply with a collection of information subject to the requirements of the Paperwork Reduction Act unless that collection of information displays a current valid OMB Control Number. As discussed above, after the AIM system is in place, Commerce will seek additional comment from parties on potential improvements or changes to the system in a subsequent document. Parties may further comment on this collection of information at that time.

Regulatory Flexibility Act

The Chief Counsel for Regulation of the Department of Commerce certified to the Chief Counsel for Advocacy of the Small Business Administration at the proposed rule stage that this rule if adopted, would not have a significant economic impact on a substantial number of small entities as that term is defined in the Regulatory Flexibility Act, 5 U.S.C. 601 et seq. (RFA). The factual basis for the certification is found in the Proposed Rule and Final Rule and is not repeated here. No comments were received on the certification or the economic impacts of this action. As a result, no final regulatory flexibility analysis is required, and none was prepared.

List of Subjects in 19 CFR Part 361

Administrative practice and procedure, Aluminum, Business and industry, Imports, Reporting and recordkeeping requirements.

Dated: May 17, 2021.
Christian Marsh,
Acting Assistant Secretary for Enforcement and Compliance.

For the reasons stated in the preamble, the Department of Commerce amends 19 CFR part 361 as follows:

PART 361—ALUMINUM IMPORT MONITORING AND ANALYSIS SYSTEM

1. The authority citation for part 361 continues to read as follows:

Authority: 13 U.S.C. 301(a) and 302.

2. In § 361.103, revise paragraphs (c)(3)(i)(C) and (c)(3)(ii)(C) to read as follows:

§ 351.103 Automatic issuance of import licenses.

* * * * *

(c) * * *

(3) * * *

(i) * * *

(C) For license applications up to June 28, 2022, filers may state “unknown” for this field. Effective June 29, 2022, filers may not state “unknown” for this field.

(ii) * * *

(C) For license applications up to June 28, 2022, filers may state “unknown” for this field. Effective June 29, 2022, filers may not state “unknown” for this field.

* * * * *

[FR Doc. 2021-10747 Filed 5-20-21; 8:45 am]

BILLING CODE 3510-DS-P